DEPARTMENT OF THE TREASURY

Bureau of the Fiscal Service

Proposed Collection of Information: Analysis to Support Electronic Funds Transfer and Remittance Mandate

ACTION: Notice and request for comments.

SUMMARY: The Department of the Treasury, as part of its continuing effort to reduce paperwork and respondent burden, invites the general public and other Federal agencies to take this opportunity to comment on proposed information collections, as required by the Paperwork Reduction Act of 1995, Public Law 104-13 (44 U.S.C. 3506(c)(2)(A). Currently the Bureau of the Fiscal Service within the Department of the Treasury is soliciting comments concerning Analysis to Support Electronic Funds Transfer and Remittance Mandate.

DATES: Written comments should be received on or before January 16, 2015 to be assured of consideration.

ADDRESSES: Direct all written comments to Bureau of the Fiscal Service, Bruce A. Sharp, 200 Third Street A4-A, Parkersburg, WV 26106-1328, or bruce.sharp@fiscal.treasury.gov.

FOR FURTHER INFORMATION CONTACT: Requests for additional information or copies should be directed to Bureau of the Fiscal Service, Dr. Olu Faokunla, Room 322, 401 14th Street SW., Washington DC 20227-0001, (202) 874-6027, or Olu.Faokunla@fiscal.treasury.gov.

SUPPLEMENTARY INFORMATION:

Title: Analysis to Support Electronic Funds Transfer and Remittance Mandate.

Abstract: As part of its eCollections Initiative, the Bureau of the Fiscal Service is proposing to amend Title 31 CFR Part 206 regulations governing federal payments and collections. The proposal offers significant efficiencies and cost savings to the federal government by mandating that all non-tax payments to the government and related remittance information be provided electronically. This proposed rule change is governed by the provisions of both Executive Order 12866 (EO 12866) and the Regulatory Flexibility Act (RFA) (5 U.S.C. 601-612), which require the agency to conduct a cost-benefit analysis of regulatory alternatives and assessment of the economic impacts of the regulatory action on small entities. Fiscal Service seeks to obtain approval for a generic clearance to collect information and data from focus groups and telephone interviews to support the required economic analysis and assist in developing a Notice of Public Rulemaking.

Current Actions: No current actions are ongoing related to the collection.

Type of Review: New collection.

Affected Public: Individuals or households, business or other for-profit organizations, and farms.

Estimated Number of Respondents: (See table below).

Estimated Time per Respondent: (See table below).

Estimated Total Annual Burden Hours: (See table below).

| Respondents attending focus group | Respondents participating in phone interviews | Focus group recruitment calls | Phone interview recruitment calls
Estimated Number of Respondents | 36 | 6 | 180 | 360
Estimated Time per Respondent (Minutes) | 90 | 60 | 30 | 30
Estimated Total Annual Burden Hours | 54 | 6 | 90 | 180

Request For Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: November 10, 2014.
Bruce A. Sharp,
Bureau Clearance Officer.

[FR Doc. 2014-27026 Filed 11-14-14; 8:45 am]

BILLING CODE 4810-AS-P